DEPARTMENT OF HOUSING AND URBAN DEVELOPMENT

[Docket No. FR-6289-N-04]

Withdrawal of Notice of Intent To Establish a Tribal Intergovernmental Advisory Committee; Request for Comments on Committee Structure

AGENCY: Office of the General Counsel (HUD).

ACTION: Withdrawal; notice.

SUMMARY: By this notice HUD is withdrawing a notice published on June 22, 2022, announcing HUD's intention to form the Department's first standing Tribal advisory committee. The June 22, 2022, publication was an erroneous republication of a notice HUD previously published on November 15, 2022. By separate notice published in today's Federal Register, HUD is reopening a request for nominations for HUD's Tribal Intergovernmental Advisory Committee (TIAC) for an additional thirty days.

FOR FURTHER INFORMATION CONTACT: Aaron Santa Anna, Associate General Counsel, Legislation and Regulations Division, Office of General Counsel, Department of Housing and Urban Development, 451 7th Street SW, Room 10278, Washington, DC 20410-0500, telephone (202) 708-1793 (this is not a toll-free number).

SUPPLEMENTARY INFORMATION: On June 22, 2022 (87 FR 37351), HUD erroneously published a notice titled “Notice of Intent To Establish a Tribal Intergovernmental Advisory Committee; Request for Comments on Committee Structure.” HUD previously published this notice on November 15, 2022 (86 FR 62051). By today's notice, HUD is withdrawing the June 22, 2022, publication. Elsewhere in today's Federal Register HUD is publishing a notice reopening a request for nominations for HUD's Tribal Intergovernmental Advisory Committee (TIAC) for an additional thirty days.

Aaron Santa Anna,
Associate General Counsel for the Office of Legislation and Regulations.

[FR Doc. 2022-13698 Filed 6-27-22; 8:45 am]

BILLING CODE 4210-67-P